DEPARTMENT OF ENERGY

Federal Energy Regulatory Commission

Combined Notice of Filings #1

Take notice that the Commission received the following electric corporate filings:

Docket Numbers: EC16-23-000.

Applicants: Prairie Rose Wind, LLC, Prairie Rose Transmission, LLC.

Description: Supplement to October 30, 2015 Application Prairie Rose Wind, LLC, et al. for Authorization Under Section 203 of the Federal Power Act.

Filed Date: 12/16/15.

Accession Number: 20151216-5171.

Comments Due: 5 p.m. ET 12/28/15.

Docket Numbers: EC16-24-000.

Applicants: Chisholm View Wind Project, LLC.

Description: Supplement to October 30, 2015 Application for Authorization Under Section 203 of the Federal Power Act of Chisholm View Wind Project, LLC.

Filed Date: 12/16/15.

Accession Number: 20151216-5169.

Comments Due: 5 p.m. ET 12/28/15.

Take notice that the Commission received the following electric rate filings:

Docket Numbers: ER10-3117-005.

Applicants: Lea Power Partners, LLC.

Description: Triennial Market Power Analysis Filing for Southwest Power Pool region of Lea Power Partners, LLC.

Filed Date: 12/16/15.

Accession Number: 20151216-5246.

Comments Due: 5 p.m. ET 2/16/16.

Docket Numbers: ER14-2852-002.

Applicants: Westar Energy, Inc.

Description: Compliance filing: Compliance Filing, Formula Rate Protocols, TFR to be effective 3/1/2015.

Filed Date: 12/17/15.

Accession Number: 20151217-5069.

Comments Due: 5 p.m. ET 1/7/16.

Docket Numbers: ER15-2592-001.

Applicants: Sierra Pacific Power Company.

Description: Tariff Amendment: Rate Schedule No. 55 SPPC Amendment 12.17.15 to be effective 1/1/2016.

Filed Date: 12/17/15.

Accession Number: 20151217-5001.

Comments Due: 5 p.m. ET 12/24/15.

Docket Numbers: ER16-519-001.

Applicants: Nevada Power Company.

Description: Tariff Amendment: OATT Revision to Schedule 1 Correction of Effective Date to be effective 5/15/2015.

Filed Date: 12/17/15.

Accession Number: 20151217-5047.

Comments Due: 5 p.m. ET 1/7/16.

Docket Numbers: ER16-540-000.

Applicants: Public Service Company of Colorado.

Description: Initial rate filing: 2015-12-15 CSU Confirm to be effective 1/1/2013.

Filed Date: 12/16/15.

Accession Number: 20151216-5210.

Comments Due: 5 p.m. ET 1/6/16.

Docket Numbers: ER16-541-000.

Applicants: Pennsylvania Windfarms, LLC.

Description: Baseline eTariff Filing: Pennsylvania Windfarms, LLC and Green Mountain Storage, LLC CFA to be effective 12/17/2015.

Filed Date: 12/16/15.

Accession Number: 20151216-5211.

Comments Due: 5 p.m. ET 1/6/16.

Docket Numbers: ER16-542-000.

Applicants: Public Service Company of Colorado.

Description: Initial rate filing: 20151216_CSU Confirm 2nd to be effective 1/1/2015.

Filed Date: 12/16/15.

Accession Number: 20151216-5212.

Comments Due: 5 p.m. ET 1/6/16.

Docket Numbers: ER16-543-000.

Applicants: Caprock Wind LLC.

Description: Section 205(d) Rate Filing: Revised Tariff & Req for Ancillary Services to be effective 12/18/2015.

Filed Date: 12/17/15.

Accession Number: 20151217-5056.

Comments Due: 5 p.m. ET 1/7/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 17, 2015.
Nathaniel J. Davis, Sr.,
Deputy Secretary.

[FR Doc. 2015-32268 Filed 12-22-15; 8:45 am]

BILLING CODE 6717-01-P